DEPARTMENT OF LABOR

Employment and Training Administration

[TA-W-52,683]

Thomasville Furniture Industries, Inc. Corporate Office, Thomasville, North Carolina; Notice of Termination of Investigation

Pursuant to section 221 of the Trade Act of 1974, an investigation was initiated on August 26, 2003 in response to a worker petition which was filed on behalf of workers at Thomasville Furniture Industries, Corporate Office, Thomasville, North Carolina.

An active certification covering the petitioning group of workers is already in effect (TA-W-50,150C, as amended). Consequently, further investigation in this case would serve no purpose, and the investigation has been terminated.

Signed in Washington, DC this 8th day of October 2003.
Richard Church,
Certifying Officer, Division of Trade Adjustment Assistance.

[FR Doc. 03-27843 Filed 11-4-03; 8:45 am]

BILLING CODE 4510-30-P